DEPARTMENT OF HEALTH AND HUMAN SERVICES

Health Resources and Services Administration

Rural Health and Economic Development Analysis Program

AGENCY: Health Resources and Services Administration (HRSA), Department of Health and Human Services.

ACTION: Announcing funding supplement for Rural Health and Economic Development Analysis Program.

SUMMARY: HRSA provided additional award funds to the Rural Health and Economic Development Analysis Program recipient to produce a research project that quantifies the relationships between health care and economic factors in rural communities.

FOR FURTHER INFORMATION CONTACT: Karis Tyner, Federal Office of Rural Health Policy, HRSA, at ktyner@hrsa.gov and (240) 645-5756.

SUPPLEMENTARY INFORMATION: Intended Recipient of the Award: The University of Kentucky.

Amount of Non-Competitive Award: One award for $250,000.

Project Period: September 1, 2023, to August 31, 2024.

CFDA Number: 93.155.

Award Instrument: Supplement.

Authority: Social Security Act section 711(b) (42 U.S.C. 912(b)).

Table 1—Recipient and Award Amount
Grant No. | Award recipient name | City, state | Supplemental award amount
5 U1ZRH33331 | The University of Kentucky | Lexington, KY | $250,000

Justification: This funding will provide a one-time supplement to the University of Kentucky via the Rural Health and Economic Development Analysis Program with a budget period of September 2023 through August 2024. This supplement will allow the University of Kentucky to build on past and ongoing projects supported by HRSA to improve health care in rural areas by advancing the knowledge base regarding the economic impacts of local health care sectors on rural economies.

Carole Johnson,
Administrator.

[FR Doc. 2023-22814 Filed 10-16-23; 8:45 am]

BILLING CODE 4165-15-P